ENVIRONMENTAL PROTECTION AGENCY

[FRL-10006-44-Region 1]

Notice of Availability of Draft NPDES Great Bay Total Nitrogen General Permit for Wastewater Treatment Facilities in New Hampshire; Reopening of Comment Period

AGENCY: Environmental Protection Agency (EPA).

ACTION: Notice; reopening comment period.

SUMMARY: EPA issued a Notice of Availability of the draft National Pollutant Discharge Elimination System (NPDES) Great Bay Total Nitrogen General Permit for Wastewater Treatment Facilities in New Hampshire, published in the Federal Register on January 7, 2020. This notice reopens the comment period through April 8, 2020. Comments submitted anytime between January 7, 2020 and April 8, 2020 will be accepted and considered.

DATES: The comment period for the draft general permit published January 7, 2020 (FR Doc. 2019-28510) (FRL-10003-91-Region 1) is reopened through April 8, 2020. All comments must be received on or before April 8, 2020.

ADDRESSES: Submit comments by one of the following methods:

• Email: Cobb.Michael@epa.gov

• Mail: Michael Cobb, U.S. EPA—Region 1, 5 Post Office Square—Suite 100 (06-1), Boston, MA 02109-3912.

FOR FURTHER INFORMATION CONTACT: Additional information concerning the draft permit may be obtained, by appointment, between the hours of 9:00 a.m. and 5:00 p.m. Monday through Friday excluding legal holidays from: Michael Cobb, Water Division, U.S. EPA, 5 Post Office Square—Suite 100, Boston, MA 02109-3912; telephone: 617-918-1369; email: Cobb.Michael@epa.gov.

SUPPLEMENTARY INFORMATION: This notice reopens the public comment period established in the Federal Register issue of January 7, 2020 (FR Doc. 2019-28510) (FRL-10003-91-Region 1). In that notice, EPA announced the availability for public comment of its draft NPDES Great Bay Total Nitrogen General Permit for Wastewater Treatment Facilities in New Hampshire. All draft permit documents can be found at https://www.epa.gov/npdes-permits/draft-great-bay-total-nitrogen-general-permit. This reopening of the comment period is in response to requests received from several interested parties to extend the comment period.

Dated: February 27, 2020.
Dennis Deziel,
Regional Administrator, Region 1.

[FR Doc. 2020-05010 Filed 3-10-20; 8:45 am]

BILLING CODE 6560-50-P